SMALL BUSINESS ADMINISTRATION

[Disaster Declaration #20953 and #20954; CALIFORNIA Disaster Number CA-20030]

Presidential Declaration Amendment of a Major Disaster for the State of California

AGENCY: U.S. Small Business Administration.

ACTION: Amendment 1.

SUMMARY: This is an amendment of the Presidential declaration of a major disaster for the State of California (FEMA-4856-DR), dated January 8, 2025.

Incident: Wildfires and Straight-line Winds.

DATES: Issued on February 18, 2025.

Incident Period: January 7, 2025 through January 31, 2025.

Physical Loan Application Deadline Date: March 10, 2025.

Economic Injury (EIDL) Loan Application Deadline Date: October 8, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of California, dated January 8, 2025, is hereby amended to update the incident period for this disaster as beginning January 7, 2025 and continuing through January 31, 2025.

All other information in the original declaration remains unchanged.

(Catalog of Federal Domestic Assistance Number 59008)

James Stallings,
Associate Administrator, Office of Disaster Recovery & Resilience.

[FR Doc. 2025-02951 Filed 2-21-25; 8:45 am]

BILLING CODE 8026-09-P